SECURITIES AND EXCHANGE COMMISSION

[File No. 500-1]

Vaso Active Pharmaceuticals, Inc.; Order of Suspension of Trading

April 1, 2004.

Correction

In notice document 04-7786 appearing on page 17722 in the issue of Monday, April 5, 2004, make the following correction:

On page 17722, in the second column, the date is corrected to read as set forth above.

[FR Doc. C4-7786 Filed 4-21-04; 8:45 am]

BILLING CODE 1505-01-D